DEPARTMENT OF TRANSPORTATION

Federal Aviation Administration

Technical Standard Order (TSO)-C135, Transport Airplane Wheels and Wheel and Brake Assemblies

AGENCY: Federal Aviation Administration, DOT.

ACTION: Notice of availability of Technical Standard Order.

SUMMARY: This action announces the availability of TSO-C135. This TSO prescribes the minimum performance standards that transport category airplane wheels and wheel and brake assemblies must meet to be identified with the applicable TSO marking. The FAA published the Revision of Braking Systems Airworthiness Standards final rule and a Notice of Issuance for the Advisory Circular on the same subject on April 24, 2002, in the Federal Register (67 FR 20422).

DATE: The subject technical standard order was issued by the Manager, Aircraft Certification Service, on May 2, 2002.

FOR FURTHER INFORMATION CONTACT: Mahinder K. Wahi, FAA, Propulsion/Mechanical Systems Branch, ANM-112, Transport Airplane Directorate, 1601 Lind Avenue SW., Renton, WA 98055-4056; telephone (425) 227-2142; facsimile (425) 227-1320, e-mail mahinder.wahi@faa.gov.

SUPPLEMENTARY INFORMATION:

Background

The standards of this TSO apply to transport category airplane wheels and wheel and brake assemblies used for any new TSO application submitted after the effective date of this TSO. Wheels and wheel and brake assemblies currently approved for 14 CFR part 25 airplanes under TSO-C26c authorization may continue to be manufactured under the provisions of their original approval. However, under § 21.611(b) of Title 14, Code of Federal Regulations (14 CFR), any major design change to a wheel or a wheel and brake assembly previously approved under TSO-C26c will require a new authorization under this TSO.

How To Obtain A Copy of the TSO

The TSO-135 “Minimum Performance Specification for Transport Airplane Wheel and Wheel and Brake Assemblies,” may be obtained from the U.S. Department of Transportation, Subsequent Distribution Office, SVC-121.23, Ardmore East Business Center, 3341 Q 7th Avenue, Landover, MD 20785.

An electronic copy of TSO-C135 may be downloaded using the Internet at the following address: http://www.faa.gov/certification/aircraft/air_index.htm or by submitting a request to the Federal Aviation Administration, Office of Rulemaking, ARM-1, 800 Independence Avenue SW., Washington, DC 20591, or be calling (202) 267-9680. Make sure to identify the TSO number.

Issued in Washington, DC, on May 28, 2002.
David W. Hempe,
Manager, Aircraft Engineering Division.

[FR Doc. 02-13965 Filed 6-3-02; 8:45 am]

BILLING CODE 4910-13-M